DEPARTMENT OF HEALTH AND HUMAN SERVICES

Centers for Medicare & Medicaid Services

[Document Identifier: CMS-R-204, CMS-10208 and CMS-R-234]

Agency Information Collection Activities: Submission for OMB Review; Comment Request

Agency: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Data Collection for the Second Generation Social Health Maintenance Organization Demonstration; Use: The purpose of the Second Generation Social Health Maintenance Organization Demonstration (S/HMO-II) is to refine the targeting and financing methodologies, and benefit design of the Social Health Maintenance Organization Demonstration model. Four primary components of the S/HMO-II demonstration are: (1) A geriatric care approach that will be applied across the entire spectrum of S/HMO-II enrollees; (2) expanded community care coordination through links between chronic care case-management and acute care providers; (3) provision of long-term-benefits; and (4) an adjusted average per capita costs based risk-adjusted payment methodology. Form Number: CMS-R-204 (OMB#: 0938-0709); Frequency: Reporting—Yearly; Affected Public: Individuals or households; Number of Respondents: 17,624; Total Annual Responses: 17,624; Total Annual Hours: 3,425.

2. Type of Information Collection Request: New collection; Title of Information Collection: Assessing Degrees of Health Care Involvement Survey Use: It is not sufficient to merely mail information about the Medicare program to each beneficiary. CMS needs to know that the beneficiaries received the information, understood the information and found the information useful in making choices about their Medicare participation. To this end, CMS must have measure(s) over time of what beneficiaries know and understand about the Medicare program now to be able to quantify and attribute any changes to their understanding or behavior to information/education initiatives. Measuring beneficiary information needs and knowledge over time will help CMS to evaluate the impact of information/education and other initiatives, as well as to understand how the population is changing separate from such initiatives. Form Number: CMS-10208 (OMB#: 0938-NEW); Frequency: Reporting—Weekly; Affected Public: Individuals or households; Number of Respondents: 4,000; Total Annual Responses: 3,500; Total Annual Hours: 1,200.

3. Type of Information Collection Request: Extension of a currently approved collection; Title of Information Collection: Subpart D—Private Contracts and Supporting Regulations in 42 CFR 405.410, 405.430, 405.435, 405.440, 405.445, and 405.455; Use: Under the section 4507 of the Balanced Budget Act of 1997, CMS is required to permit certain physicians and practitioners to opt out of Medicare and furnish covered services to Medicare beneficiaries through private contracts. Form Number: CMS-R-234 (OMB#: 0938-0730); Frequency: Reporting—Biennially; Affected Public: Business or other for-profits; Number of Respondents: 26,820; Total Annual Responses: 26,820; Total Annual Hours: 7,197.

To obtain copies of the supporting statement and any related forms for the proposed paperwork collections referenced above, access CMS Web site address at http://www.cms.hhs.gov/PaperworkReductionActof1995, or e-mail your request, including your address, phone number, OMB number, and CMS document identifier, to Paperwork@cms.hhs.gov, or call the Reports Clearance Office on (410) 786-1326.

Written comments and recommendations for the proposed information collections must be mailed or faxed within 30 days of this notice directly to the OMB desk officer: OMB Human Resources and Housing Branch, Attention: Carolyn Lovett, New Executive Office Building, Room 10235, Washington, DC 20503. Fax Number: (202) 395-6974.

Dated: January 5, 2007.
Michelle Shortt,
Director, Regulations Development Group, Office of Strategic Operations and Regulatory Affairs.

[FR Doc. E7-225 Filed 1-11-07; 8:45 am]

BILLING CODE 4120-01-P